COMMODITY FUTURES TRADING COMMISSION

Sunshine Act Notice

AGENCY HOLDING THE MEETING: Commodity Futures Trading Commission

TIME AND DATE: 11:00 a.m., Friday, March 31, 2000.

PLACE: 1155 21st St., N.W., Washington, D.C., 9th Floor Conference Room.

STATUS: Closed.

MATTERS TO BE CONSIDERED: Surveillance Matters.

CONTACT PERSON FOR MORE INFORMATION: Jean A. Webb, 202-418-5100.

Jean A. Webb,
Secretary of the Commission.

[FR Doc. 00-4579 Filed 2-23-00; 12:40 pm]

BILLING CODE 6351-01-M